DEPARTMENT OF DEFENSE

Department of the Army

[Docket ID: USA-2009-0013]

Proposed Collection; Comment Request

AGENCY: Office of the Administrative Assistant to the Secretary of the Army, (OAA-AAHS), DoD.

ACTION: Notice.

In compliance with Section 3506(c) (2)(A) of the Paperwork Reduction Act of 1995, the Department of the Army announces a proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 18, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write U. S. Army Corps of Engineers Directorate of Civil Works, Regulatory Community of Practice (CECW-COR), 441 G Street, NW., Washington, DC 20314-1000. ATTN: Jon E. Soderberg, or call Department of the Army reports clearance officer at (703) 428-6440.

Title, Associated Form, and OMB Number: Customer Service Survey—Regulatory Program, U. S. Army Corps of Engineers, ENG FORMS 5065; OMB Control Number 0710-0012.

Needs and Uses: The surveys of applicants who are required to obtain permits from the U.S. Army Corps of Engineers to build on or conduct dredge and fill operations in United States waters. Opinions on the quality of service are used to make program improvements.

Affected Public: Business or other for-profit.

Annual Burden Hours: 15,000.

Number of Respondents: 60,000.

Responses per Respondent: 1.

Average Burden per Response: 15 minutes.

Frequency: On occasion.

SUPPLEMENTARY INFORMATION:

Summary of Information Collection

The Corps will conduct surveys of customers at our districts, division and headquarters offices, currently a total of 49 offices. Most customer responses will be solicited by the 38 districts. These elements will tabulate their survey results and send copies to headquarters for a Corps-wide tabulation. The survey form will be provided to the public when they receive a regulatory product, primarily a permit decision or wetland determination.

Dated: April 15, 2009.
Patricia L. Toppings,
OSD Federal Register Liaison Officer, Department of Defense.

[FR Doc. E9-14433 Filed 6-18-09; 8:45 am]

BILLING CODE 5001-06-P